GENERAL SERVICES ADMINISTRATION

Federal Travel Regulation (FTR); Maximum Per Diem Rates for the Continental United States (CONUS)

AGENCY: Office of Governmentwide Policy, General Services Administration (GSA).

ACTION: Notice of Per Diem Bulletin 08-01, Fiscal Year (FY) 2008 continental United States (CONUS) per diem rates.

SUMMARY: The General Services Administration's (GSA's) annual per diem review has resulted in lodging and meal allowance rate changes for locations within the continental United States (CONUS) to provide for the reimbursement of Federal employees' authorized travel expenses covered by per diem. Per Diem Bulletin 08-01 updates the standard CONUS lodging per diem rate as well as the maximum per diem amounts for existing non-standard areas (NSAs) located within CONUS. The standard CONUS lodging rate will increase to $70. All CONUS per diem rates prescribed in Bulletin 08-01 may be found at http://www.gsa.gov/perdiem. GSA based the lodging per diem rates, including the updated standard CONUS lodging rate, on average daily rate information that the lodging industry reports. The use of such data in the per diem rate setting process enhances the Government's ability to obtain policy compliant lodging where it is needed. In addition to the annual lodging study, GSA identified two new redefined non-standard areas (NSA's), which prompted an out of cycle meal survey for these areas.

For a complete listing of pertinent information that must be submitted through a Federal executive agency for GSA to restudy a location if a CONUS or standard CONUS per diem rate is insufficient to meet necessary expenses, please review numbers 4 and 5 of our per diem Frequently Asked Questions at (http://www.gsa.gov/perdiemfaqs).

DATES: This notice is effective October 1, 2007, and applies for travel performed on or after October 1, 2007 through September 30, 2008.

FOR FURTHER INFORMATION CONTACT: For clarification of content, contact Mr. Cy Greenidge, Office of Governmentwide Policy, Office of Travel, Transportation, and Asset Management, at (202) 219-2349, or by e-mail at http://www.gsa.gov/perdiemquestions. Please cite Notice of Per Diem Bulletin 08-01.

SUPPLEMENTARY INFORMATION:

A. Background

After an analysis of current data, the General Services Administration (GSA) has determined that the current standard continental United States (CONUS) lodging rate, as well as lodging rates for certain localities (non-standard areas), do not adequately reflect lodging market conditions. To develop the per diem rates for FY 2008, GSA used the same average daily rate-based methodology used for establishing the FY 2007 per diem rates. The use of average daily rate information to establish the standard CONUS lodging rate is new for FY 2008.

A meals study was also conducted for two new non-standard areas (NSAs).

B. Change in Standard Procedure

GSA issues/publishes the CONUS per diem rates, formerly published in Appendix A to 41 CFR Chapter 301, solely on the internet at http://www.gsa.gov/perdiem. This process, implemented in 2003, ensures more timely changes in per diem rates established by GSA for Federal employees on official travel within CONUS. Notices published periodically in the Federal Register, such as this one, now constitute the only notification of revisions in CONUS per diem rates to agencies.

Dated: July 31, 2007.
Becky Rhodes,
Deputy Associate Administrator.

[FR Doc. E7-15216 Filed 8-3-07; 8:45 am]

BILLING CODE 6820-14-P